DEPARTMENT OF TRANSPORTATION

Federal Aviation Administration

Forty-Fifth Meeting, RTCA Special Committee 186 Automatic Dependent Surveillance-Broadcast (ADS-B)

AGENCY: Federal Aviation Administration (FAA), DOT.

ACTION: Notice of RTCA Special Committee 186 Automatic Dependent Surveillance Broadcast (ADS-B) meeting.

SUMMARY: The FAA is issuing this notice to advise the public of a meeting of RTCA Special Committee 186 Automatic Dependent Surveillance Broadcast (ADS-B).

DATES: The meeting will be held August 12-14, 2008, at 9 a.m. (Unless otherwise noted).

ADDRESSES: The meeting will be held at Crowne Plaza Hotel, 1-5 Spencer Street, Melbourne, VIC 3005 Australia, +61 3 9648 2777; fax +61 3 9629 5631; Web: http://www.crowneplaza.com.au.

FOR FURTHER INFORMATION CONTACT: (1) RTCA Secretariat (Hal Moses), 1828 L Street, NW., Suite 805, Washington, DC, 20036, (202) 833-9339; fax (202) 833-9434; Web site http://www.rtca.org.

SUPPLEMENTARY INFORMATION: Pursuant to section 10(a)(2) of the Federal Advisory Committee Act (P.L. 92-463, 5 U.S.C., Appendix 2), notice is hereby given for a Special Committee 186 meeting. The agenda will include:

• August 12:

• Chairman's Introductory Remarks, Review of Meeting Agenda

• Review/Approval of the Forty-fourth Meeting Summary, RTCA Paper No. 127-08/SC186-263, Date Place and Time of Next Meeting

• Review proposed TOR's for Working Groups

• Working Group Reports

• WG-1—Operations and Implementation

• WG-2—TIS-B MASPS

• WG-3—1090 MHz MOPS

• WG-4—Application Technical Requirements

• WG-5—UAT MOPS

• RFG—Requirements Focus Group

• ICAO Asia Pacific Focus Group

• Program Status

• ASA

• FAA

• August 13:

• RFG—Requirements Focus Group

• ITP-Status

• VSA/RAD—document review

• Document “Library” Review & Joint Planning Session

• Closing Plenary Session (New/Other Business, Review Actions Items/Work Program, Adjourn)

• August 13:

Melbourne Center & Ground Station Visit

This ATC Centre is one of two centres that provide ATC services for a total of 11% of the earth's surface. It includes an ATC automation system the integrates radar, flight plan processing, ADS-C, ADS-B, CPDLC, Maestro flow management and will soon support WAM. It supports enroute, terminal areas and towers. There are no paper strips except in the control towers. This visit will include a briefing and a visit to the centre. You can expect to see ADS-B tracks on screen. More info at http://www.airservicesaustralia.com.

The ADS-B ground station at Melbourne is not a fielded unit, but rather an ADS-B ground station that forms part of the Test & Evaluation system.

• Note:

Registration

Airservices Australia will be providing lunch as well as morning and afternoon teas on Day 1 & 2. A dinner is planned on the evening of Day 2. Airservices will also provide a bus on Day 3 for the centre visit. For catering purposes could you please register for the meeting by e-mailing the following information to ellia.marando@AirservicesAustralia.com.

Name.

Organization.

E-mail.

Phone.

Address.

An indication if you are able to attend a dinner on the evening of Day 2 and if you have any special dietary needs. In addition, please provide the following information to enable us to make the security arrangements for your visit to the ATC centre if you intend to attend on August 13th.

Name.

Date and country of birth.

Nationality and Passport Number.

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on July 3, 2008.
Francisco Estrada C.,
RTCA Advisory Committee.

[FR Doc. E8-15957 Filed 7-15-08; 8:45 am]

BILLING CODE 4910-13-M